DEPARTMENT OF JUSTICE

Immigration and Naturalization Service

Agency Information Collection Activities: Proposed Collection; Comment Request.

ACTION: Request OMB emergency approval; Immigrant petition for alien workers.

The Department of Justice, Immigration and Naturalization Service (INS) is submitting this information collection request utilizing emergency review procedures to the Office of Management and Budget (OMB) for review and clearance with section 1320.13(a)(1)(ii) and (a)(2)(iii) of the paperwork Reduction Act of 1995. If granted, the emergency approval is only valid for 180 days.

Emergency OMB review and approval is requested on the proposed revision of the collection to ensure that the application conforms with current regulations and INS policy regarding the necessary documentation to be submitted with the application.

All comments and/or questions pertaining to this pending request for emergency approval should be received prior to September 22, 2000 and must be directed to OMB, Office of Information and Regulatory Affairs, Attention: Ms. Lauren Wittenberg, Department of Justice Desk Office, 725 17th Street, NW., Suite 10235, Washington, DC 20503, 202-395-4718. Comments regarding the emergency submission of this information collection may also be submitted via facsimile to Ms. Wittenberg at 202-395-6974.

During the first 60 days of this same period, a regular review of this information collection is also being undertaken. During the regular review period, the INS requests written comments and suggestions from the public and affected agencies concerning this information collection. Comments are encouraged and will be accepted for “sixty days” until November 17, 2000. During the 60-day regular review, all comments and suggestions or questions regarding additional information, to include instructions, should be directed to Mr. Richard A. Sloan, 202-514-3291, Director, Policy Directives and Instructions Branch, Immigration and Naturalization Service, U.S. Department of Justice, Room 4034, 425 I Street, NW., Washington, DC 20536. Written comments and suggestions from the public and affected agencies concerning the proposed collection of information should address one or more of the following points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology e.g. permitting electronic submission of responses.

Overview of this information collection:

(1) Type of Information Collection: Revision of a currently approved collection.

(2) Title of the Form/Collection: Immigrant Petition for Alien Workers.

(3) Agency form number, if any, and the applicable component sponsoring the collection: Form I-140. Adjudications Division, Immigration and Naturalization Service.

(4) Affected public who will be asked or required to respond, as well as brief abstract: Primary: Individuals or households. This form is used to petition to classify a person under section 203(b)(1), 203(b)(2), or 203(b)(3) of the Immigration and Nationality Act. The data collected on this form will be used by the INS to determine eligibility for the requested immigration benefit.

(5) An estimate of the total number of respondents and the amount to time estimated for an average respondent to respond: 56,260 responses at 60 minutes or one hour per response.

(6) An estimate of the total public burden (in hours) associated with the collection: 56,260 annual burden hours.

If additional information is required contact: Mr. Robert B. Briggs, Clearance Officer, Department of Justice, Information Management and Security Staff, Justice Management Division, 1331 Pennsylvania Avenue, Suite 1220, NW., National Place Building, Washington, DC 20530.

Dated: September 9, 2000
Richard A. Sloan,
Department Clearances Office, Immimgration and Naturalization Service, United States Department of Justice.

[FR Doc. 00-23849 Filed 9-15-00; 8:45 am]

BILLING CODE 4410-10-M